COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities, and deletes product(s) and service(s) from the Procurement List previously furnished by such agencies.

DATES: Date added to and deleted from the Procurement List: July 30, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Additions

On 3/31/2023, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping, or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Custodial Service

Mandatory for: U.S. Army, Oahu, HI

Designated Source of Supply: Work Now Hawaii, Honolulu, HI

Contracting Activity: DEPT OF THE ARMY, 0413 AQ HQ

Deletions

On 3/3/2023, 3/10/2023, 3/17/2023, 4/7/2023, 4/21/2023, and 5/5/2023, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 7530-01-590-7110—Paper, Thermal, Roll, White, 2¼″ x 165′

Designated Source of Supply: CINCINNATI ASSOCIATION FOR THE BLIND AND VISUALLY IMPAIRED, Cincinnati, OH

Contracting Activity: GSA/FAS ADMIN

SVCS ACQUISITION BR (2, NEW YORK, NY

Service(s)

Service Type: Janitorial/Custodial

Mandatory for: North Dakota Maintenance Office & Bismarck Warehouse, Bismarck ND

Designated Source of Supply: Pride, Inc., Bismarck, ND

Contracting Activity: ENERGY, DEPARTMENT OF, WESTERN-UPPER GREAT PLAINS REGION

Service Type: Janitorial/Custodial

Mandatory for: North Dakota Maintenance Office, 707 North Bismarck Expressway, Bismarck, ND

Designated Source of Supply: Pride, Inc., Bismarck, ND

Contracting Activity: ENERGY, DEPARTMENT OF, WESTERN-UPPER GREAT PLAINS REGION

Service Type: Janitorial/Custodial

Mandatory for: Bureau of Land Management, Farmington District Office, 6251 College Boulevard, Farmington, NM

Designated Source of Supply: Presbyterian Medical Services, Santa Fe, NM

Contracting Activity: BUREAU OF LAND MANAGEMENT, NM-NEW MEXICO STATE OFFICE

Service Type: Laundry Service

Mandatory for: Pennsylvania Air National Guard, 171st Air Refueling Wing, Aircrew Alert Facility, 300 Tanker Road, Coraopolis, PA

Designated Source of Supply: Hancock County Sheltered Workshop, Inc., Weirton, WV

Contracting Activity: DEPT OF THE ARMY, W7NX USPFO ACTIVITY PA ARNG

Service Type: Janitorial Service

Mandatory for: USDA Forest Service, White Mountain National Forest Headquarters,71 White Mountain Dr, Campton, NH

Designated Source of Supply: Community Workshops, Inc., Boston, MA

Contracting Activity: FOREST SERVICE, ALLEGHENY NATIONAL FOREST

Service Type: Custodial and Related Services

Mandatory for: GSA PBS Region 8, Missoula Federal Building, 200 East Broadway, Missoula, MT

Designated Source of Supply: Opportunity Resources, Inc., Missoula, MT

Contracting Activity: PUBLIC BUILDINGS SERVICE, PBS R8

Service Type: Document Destruction Service

Mandatory for: Social Security ODAR, Falls Church, VA (offsite: 9104 Red Branch Road, Columbia, MD), One Skyline Tower, 5107 Leesburg Pike, Falls Church, VA

Contracting Activity: SOCIAL SECURITY ADMINISTRATION

Service Type: Janitorial/Custodial

Mandatory for: US Army Reserve, PFC Anthony F. Eafrati USARC, 100 Front Street, Weirton, WV

Designated Source of Supply: Hancock County Sheltered Workshop, Inc., Weirton, WV

Contracting Activity: DEPT OF THE ARMY, W6QK ACC-PICA

Service Type: Dispatcher

Mandatory for: Defense Logistics Agency, Defense Supply Center Richmond, 8000 Jefferson Davis Highway, Richmond, VA

Designated Source of Supply: SOAR 365, Richmond, VA

Contracting Activity: DEFENSE LOGISTICS AGENCY, DCSO RICHMOND

Service Type: Firewatch/Tank Void/Lead Handler Support Services

Mandatory for: Puget Sound Naval Ship Yards at Bremerton, Bangor and Keyport, WA 1400 Farragut Avenue, Bremerton, WA

Designated Source of Supply: Skookum Educational Programs, Bremerton, WA

Contracting Activity: DEPT OF THE NAVY, NAVSUP FLT LOG CTR PUGET SOUND

Service Type: Custodial Service

Mandatory for: USDA Forest Service, Bridger-Teton National Forest Supervisor's Office, Jackson Ranger District & Teton Interagency Helibase, Jackson, WY, 340 N. Cache Street and 1260 E. Airport Road Jackson, WY

Designated Source of Supply: Development Workshop, Inc., Idaho Falls, ID

Contracting Activity: FOREST SERVICE, USDA FOREST SERVICE

Service Type: Janitorial/Custodial

Mandatory for: US Department of Energy, Energy Drive Facility, Idaho National Laboratory, Bldg. IF-609, 850 Energy Drive, Idaho Falls, ID

Designated Source of Supply: Development Workshop, Inc., Idaho Falls, ID

Contracting Activity: ENERGY, DEPARTMENT OF, IDAHO OPERATIONS OFFICE

Michael R. Jurkowski,
Acting Director, Business Operations.

[FR Doc. 2023-13947 Filed 6-29-23; 8:45 am]

BILLING CODE 6353-01-P